DEPARTMENT OF COMMERCE

National Oceanic and Atmospheric Administration

Draft Revised Management Plan for the Lake Superior National Estuarine Research Reserve

AGENCY: Office for Coastal Management, National Ocean Service, National Oceanic and Atmospheric Administration, Department of Commerce.

ACTION: Request for comments on draft revised management plan.

SUMMARY: The National Oceanic and Atmospheric Administration (NOAA) is soliciting comments from the public regarding a proposed revision of the management plan for the Lake Superior National Estuarine Research Reserve. A management plan: Provides a framework for the direction and timing of a reserve's programs; allows reserve managers to assess a reserve's success in meeting its goals and to identify any necessary changes in direction; and is used to guide programmatic evaluations of the reserve. Plan revisions are required of each reserve in the National Estuarine Research Reserve System at least every five years. This revised plan is intended to replace the plan approved in 2010.

DATES: Comments must be received at the appropriate address (see ADDRESSES) on or before December 2, 2020.

ADDRESSES: The draft revised management plan can be downloaded or viewed at: https://lakesuperiorreserve.org/management-plan/. The document is also available by sending a written request to the point of contact identified below (see FOR FURTHER INFORMATION).

You may submit comments by any of the following methods:

Electronic Submission: Submit all electronic public comments by email to Elizabeth.Mountz@noaa.gov.

Mail: Submit written comments to Elizabeth Mountz, Office for Coastal Management, 1305 East-West Highway, N/ORM, 10th Floor, Silver Spring, MD 20910. Comments submitted by any other method or after the comment period may not be considered. All comments are part of the public record and may be publicly accessible. Any personal identifying information (e.g., name, address) submitted voluntarily by the sender may also be accessible. NOAA will accept anonymous comments.

FOR FURTHER INFORMATION CONTACT: Elizabeth Mountz of NOAA's Office for Coastal Management, by email at Elizabeth.Mountz@noaa.gov, phone at 240-533-0819, or mail at: 1305 East-West Highway, N/ORM, 10th Floor, Silver Spring, MD 20910.

SUPPLEMENTARY INFORMATION: Pursuant to 15 CFR 921.33(c), a state must revise the management plan for the research reserve at least every five years. If approved by NOAA, the Lake Superior National Estuarine Research Reserve's revised plan will replace the plan previously approved in 2010.

The draft revised management plan outlines the reserve's: Strategic goals and objectives; administrative structure; programs for conducting research and monitoring, education, and training; resource protection, restoration, and manipulation plans; public access and visitor use plans; consideration for future land acquisition; and facility development to support reserve operations. In particular, this draft revised management plan focuses on changes to facilities through acquiring permanent housing for visiting students and researchers; growing the sectors by structurally supporting additional staff; advancing geographic information systems (GIS) and data management priorities; and developing a formal advisory board and strategic relationships with the private sector in the region.

Since 2010, the reserve has acquired permanent facilities for the reserve's operations; hired core sector leads and support staff; opened a public interpretive center and classroom; and expanded formal partnerships in research and education across the region. The revised management plan, once approved, would serve as the guiding document for the 16,697-acre research reserve for the next five years.

NOAA's Office for Coastal Management analyzes the environmental impacts of the proposed approval of this draft revised management plan in accordance with section 102(2)(C) of the National Environmental Policy Act of 1969, as amended, 42 U.S.C. 4332(2)(C), and the Council on Environmental Quality Regulations for Implementing the Procedural Provisions of NEPA (40 CFR 1500-1508). The public is invited to comment on the draft revised management plan. NOAA will take these comments into consideration in deciding whether to approve the draft revised management plan in whole or in part.

Authority: 16 U.S.C. 1451 et seq.; 15 CFR 921.33.

Keelin S. Kuipers,
Deputy Director, Office for Coastal Management, National Ocean Service, National Oceanic and Atmospheric Administration.

[FR Doc. 2020-24190 Filed 10-30-20; 8:45 am]

BILLING CODE 3510-NK-P